FEDERAL TRADE COMMISSION

Granting of Request for Early Termination of the Waiting Period Under the Premerger Notification Rules

Section 7A of the Clayton Act, 15 U.S.C. 18a, as added by Title II of Hart-Scott-Rodino Antitrust Improvements Act of 1976, requires persons contemplating certain mergers or acquisitions to give the Federal Trade Commission and the Assistant Attorney General advance notice and to wait designated periods before consummation of such plans. Section 7A(b) (2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
20010027 | United Technologies Corporation | Donald Derych | A.T. Distributors, Inc.
Transactions Granted Early Termination—10/17/2000
20005058 | America Online, Inc. | Synapse Group, Inc. | Synapse Group, Inc.
20005076 | American Tower Corporation | William F. Somers | Flash Technology Corporation of America, Modern Technical Service, Inc.
20005127 | Credit Suisse Group | Manufacturers Services Limited | Manufacturers Services Limited.
20005139 | Credit Suisse Group | Duane Reade Inc. | Duane Reade Inc.
20005181 | Waste Connections, Inc | Waste Corporation of America, Inc | Northern Plains Disposal, Inc., Oklahoma Landfill Holdings, Inc., Osage Landfill, Inc., Southern Plains Disposal, Inc.
20005189 | Credit Suisse Group | DLJ Merchant Banking Partners II, L.P | Charles River Laboratories, Inc.
20005191 | Credit Suisse Group | Nextel Partners, Inc | Nextel Partners, Inc.
20005193 | Aether Systems, Inc | Motient Corporation | Motient Corporation.
20005195 | Century Aluminum Company | Southwire Company | Southwire Company, Metalsco Ltd.
20005199 | Dover Corporation | OK Holdings, Inc | OK Holdings, Inc.
20010005 | Alberta Energy Company Ltd | TransCanada Pipelines Limited | TransCanada Pipelines Limited.
20010007 | Eastman Chemical Company | Hercules Incorporated | Hercules Incorporated.
20010020 | Mr. Irvine Laidlaw | Tribune Company | AchieveGlobal, Inc.
20010025 | Omnicom Group Inc | Icon Holding Corp | Icon Holding Corp.
20010035 | Brunswick Corporation | K2 Inc | K2 Inc.
20010036 | K2 Inc. | Brunswick Corporation | Brunswick Corporation.
20010077 | Morgan Stanley Dean Witter Capital Partners IV, L.P | Yuasa Corporation | Yuasa, Inc.
20010110 | Morgan Stanley Dean Witter Capital Partners IV, L.P | HoldCo | HoldCo.
Transactions Granted Early Termination—10/18/2000
20005080 | Intersil Holding Corporation | John Walton | SiCom, Inc.
20005132 | Goodyear Tire & Rubber Company (The) | Arkansas Best Corporation | Treadco, Inc.
20005222 | The 1818 Fund III, L.P | MedSource Technologies, Inc | MedSource Technologies, Inc.
20010033 | Harvest Partners III, L.P | John McSweeney | CFI Holdings, Inc.
20010034 | Harvest Partners III, L.P | Truman Bassett | CFI Holdings, Inc.
Transactions Granted Early Termination—10/19/2000
20005078 | Tom T. Gores | Billing Concepts Corp | Billing Concepts Corp.
20005119 | The AES Corporation | KMR Power Corporation | KMR Power Corporation.
20005165 | Mallinckrodt Inc | Bank One Corporation | First Lafayette Holdings, Inc., Inovision Radiation Measurements, LLC, Victoreen, LLC.
20005187 | Time Warner, Inc | SignCast, Inc | SignCast, Inc.
20005200 | Enron Corp | Baycorp Holdings, Ltd | Baycorp Holdings, Ltd
20005203 | Tyco International Ltd | CIGI Investment Group, Inc | CIGI Investment Group, Inc.
20005204 | Sylvan Learning Systems, Inc | Classwell Learning Group, Inc | Classwell Learning Group, Inc.
20005212 | RGS Energy Group, Inc | Avrimac Corporation | Avrimac Corporation.
20005213 | RWE Aktiengesellschaft | Thames Water Plc | Thames Water Plc.
20005218 | Dawn Chemical Company | James M. Moran | Petro Chemical Products, Inc.
20005223 | barnesandnoble.com, Inc | Fatbrain.com, Inc | Fatbrain.com, Inc.
20005224 | Vigilant Holdings LLC | Earl Payton | Cowden International, Inc., Cowden Metal Finishing, Inc., Hitek Product Finishing, Inc.
20005225 | Earl Payton | Vigilant Holdings LLC | Vigilant Holdings LLC.
20010002 | Community Newspaper Holdings Inc | Hollinger Inc | Hollinger International Inc.
20010003 | Eltek, ASA | CC Industries, Inc | Power Conversion Products, LLC.
20010006 | Vulcan Materials Company | Titan Cement Company S.A. | Tarmac Mid-Atlantic.
20010015 | Wisconsin Label Corporation | Superior Label Systems, Inc | Superior Label Systems, Inc.
Transactions Granted Early Termination—10/20/2000
20010026 | Thomas Weisel Capital Partners, L.P | Ion Systems, Inc | Ion Systems, Inc.
20010030 | Brian L. Roberts | Maryland Baseball, LLLP | Maryland Baseball, LLLP.
20010043 | Anthony Gartland | Daniel M. Provenzano | Tella Tool and Manufacturing Company.
20010060 | SCI Systems, Inc | CMS Hartzell Incorporated | CMS Hartzell Incorporated.
20010069 | Willis Stein & Partners II, LP | ECCLETTS, LTD | GFS Holdings Co.
20010149 | J.H. Whitney IV, L.P | Gabriel Communications, Inc | Gabriel Communications, Inc.
Transactions Granted Early Termination—10/23/2000
20005118 | Joe Fojasek | Gary R. Chapman | WWLP Holdings, Inc.
20005140 | VoiceStream Wireless Corporation | STPCS Joint Venture, LLC | STPCS Joint Venture, LLC.
20005145 | SM Cable Holdings, LLC | Cox Enterprises, Inc | Peak Cablevision, L.L.C.
20005164 | Kohler Family Partnership Ltd | Internacional de Ceramica, S.A. de C.V | Internacional de Ceramica, S.A. de C.V.
20005188 | Professor Kurt Jenny | TriPath Imaging, Inc | TriPath Imaging, Inc.
20010016 | Superior Label Systems, Inc | Wisconsin Label Corporation | Wisconsin Label Corporation.
20010021 | AT&T Corp | Dana H. Dalton | GCI, Incorporated.
20010024 | VS&A Communications Partners III, L.P | Thomas L. Phillips | Infotech Consulting, Inc., Knowledge Sciences, Inc., MIN Publishing Co., Inc., Optic Music, Inc., Phillips Business Holdings Limited, Phillips Business Information Limited, Phillips Business Information, Inc., Phillips International Inc., Phillips Management Group, LLC.
20010028 | VS&A Communications Partners II, L.P | Thomas L. Phillips | Thomas L. Phillips.
20010031 | Credit Suisee First Boston Equity Partners, L.P | MascoTech, Inc | MascoTech, Inc.
20010037 | Scott K. Ginsburg | Digital Generation Systems, Inc | Digital Generation Systems, Inc.
20010038 | Digital Generation Systems, Inc | Scott K. Ginsburg | StarGuide Digital Networks, Inc.
20010040 | barnesandnoble.cominc. | MightyWords, Inc | MightyWords, Inc.
20010042 | Primedia, Inc | Media/Communications Partners II Limited Partnership | Adam/Laux Company, Inc.
20010044 | Paradigm Investment Group, LLC | CKE Restaurants, Inc | Hardee's Food Systems, Inc.
20010058 | DHL International Limited | DHL Worldwide Express, Inc | DHL Worldwide Express, Inc.
20010059 | KKR 1996 Fund LP | Laporte plc | Laporte America Inc.
20010067 | The Edward W. Scripps Trust | A.H. Belo Corporation | Henderson Gleaner, Inc.
20010075 | The Savage Companies | Waste Management, Inc | Waste Management, Inc.
20010078 | St. Joseph's Healthcare System, Inc | Saint Barnabas Corporation | Wayne General Hospital.
20010082 | First Data Corporation | Kirk E. Sanford | CCI Acquisition LLC.
20010083 | Coming Incorporated | Pirelli S.p.A | Optical Technologies USA Comp.
20010085 | Golder, Thoma, Gressey, Raunder Fund V.L.P | Equifax Inc | RMA Holdings, LLC.
Transactions Granted Early Termination—10/24/2000
20010023 | Sisters of St. Joseph of Orange | Province Healthcare Company | Brim Hospitals, Inc.
20010063 | Motorola, Inc | Naspers Limited | OpenTV Corp.
20010086 | J.H. Whitney Fund IV, L.P | Affina Corporation | Affina Corporation.
20010096 | John P. Rochon | Nu-kote Holding, Inc | Nu-kote Holding, Inc.
20010098 | Citizens Communications Company | Global Crossing Ltd | Frontier Communications of AuSable Valley, Inc., Frontier Communications of New York, Inc., Frontier Communications of Rochester, Inc., Frontier Communications of Seneca-Gorham, Inc., Frontier Communications of Sylvan Lake, Inc., Frontier Subsidiary Telco Inc., Frontier Telephone of Rochester, Inc.
20010102 | Stewart A. Resnick and Lynda Rae Resnick | The Chase Manhattan Corporation | AFS Holdings Corp.
20010103 | NBA Media Ventures, LLC | Exca Holdings, Inc. | Exca Holdings, Inc.
20010106 | Minnesota Corn Processors, LLC | Corn Products International, Inc | Corn Products International, Inc.
20010108 | Kenneth D. Tuchman | Boston Communications Group, Inc | Celluar Express, Inc. Wireless Teleservices Corp.
20010115 | GN Great Nordic Ltd | Hello Direct, Inc | Hello Direct, Inc.
20010118 | DLJ Merchant Banking Partners Ill, L.P | Telseon, Inc | Telseon, Inc.
20010127 | Conning Capital Partners V, L.P | Comcap Holdings Corp | Comcap Holdings Corp.
20010129 | CNET Networks, Inc | Peter Steinlauf | Edmunds Holding Company.
20010130 | Cedar Creek Partners LLC | Mr. Donald J. Long, Sr | Imperial, Inc.
20010135 | McLeodUSA Incorporated | CapRock Communications Corp | CapRock Communications Corp.
20010140 | Alpha Technologies Group, Inc | Mestek, Inc | National Northeast Corporation.
20010141 | Teijin Limited | Manville Personal Injury Settlement Trust | Manville Personal Injury Settlement Trust.
20010147 | Promotora de Empresas Zano S.A. de C.V | Tower Automotive, Inc | Tower Automotive Products Company, Inc.
20010177 | Francisco Partners, L.P | Citron Haligman Bedecarre Incorporated | Citron Haligman Bedecarre Incorporated.
Transactions Granted Early Termination—10/25/2000
20010032 | Minnesota Mining and Manufacturing Company | ESPE Dental AG | ESPE Dental AG.
20010053 | Deutsche Lufthansa AG | Hawker Pacific Aerospace | Hawker Pacific Aerospace.
20010160 | Straub Clinic & Hospital, Inc | PhyCor, Inc | PhyCor of Hawaii, Inc.
Transactions Granted Early Termination—10/26/2000
20005179 | Swifty Serve, LLC | Elizabeth Wilson Camp | Camp Oil Company, CHH, Inc., SATFC, Inc.
20005201 | Michael Woods | Aztec Technology Partners, Inc | Aztec Technology Partners, Inc.
20005202 | O. Bruton Smith | Garry W. McKinney Genesis Auto Group, Inc | Bay Meadows Catering, Bay Meadows Operating Company LLC.
20010054 | Hitachi Ltd | Grant Thomton LLP | Grant Thomton LLP.
20010065 | Stronach Trust | Paine Webber Group, Inc | Bay Meadows Catering, Bay Meadows Operating Company, LLC
20010084 | Group 1 Automotive, Inc | Thomas W. Kelley | Kelley Automotive Group, Inc.
20010120 | Vivendi S.A. | Barry Diller | USA Networks, Inc.
20010156 | Hanson PLC | Lloyd Babler | Pacific International Pipe Enterprises of Washington, Inc., Pacific International Pipe Enterprises, Inc.
20010157 | Watson Pharmaceuticals, Inc | Rhoda Makoff | Makoff R&D Laboratories, Inc.
20010159 | debis AirFinance B.V. | AerFi Group plc | AerFi Group plc.
20010163 | GS Capital Partners 2000, L.P | Hexel Corporation | Hexel Corporation.
20010176 | Carlyle Partners III, L.P | Steve and Alice Blair (husband and wife) | Forged Metals, Inc.
20010186 | Checkpoint Systems, Inc | Richard Kam Man Nip | Auhaus/Wang Hing, Inc.
20010194 | MCSi, Inc | Intellisys Group, Inc | Intellisys Group, Inc.
Transactions Granted Early Termination—10/27/2000
20003546 | Schlumberger Limited | Baker Hughes Incorporated | Baker Hughes Incorporated.
20005169 | The Dow Chemical Company | Cargill, Incorporated | Cargill, Incorporated.
20010109 | Dimension Data Holdings plc | TimeBridge Technologies, Inc | TimeBridge Technologies, Inc.

FOR FURTHER INFORMATION CONTACT: Sandra M. Peay or Parcellena P. Fielding, Contact Representatives, Federal Trade Commission, Premerger Notification Office, Bureau of Competition, Room 303, Washington, D.C. 20580, (202) 326-3100.

By Direction of the Commission.
Donald S. Clark,
Secretary.

[FR Doc. 00-29056 Filed 11-13-00; 8:45 am]

BILLING CODE 6750-01-M